ENVIRONMENTAL PROTECTION AGENCY

[EPA-HQ-OECA-2012-0697; FRL-9949-50-OEI]

Information Collection Request Submitted to OMB for Review and Approval; Comment Request; NESHAP for Iron and Steel Foundries (Renewal)

AGENCY: Environmental Protection Agency (EPA).

ACTION: Notice.

SUMMARY: The Environmental Protection Agency has submitted an information collection request (ICR), “NESHAP for Iron and Steel Foundries (40 CFR part 63, subpart EEEEE) (Renewal)” (EPA ICR No. 2096.06, OMB Control No. 2060-0543), to the Office of Management and Budget (OMB) for review and approval in accordance with the Paperwork Reduction Act (44 U.S.C. 3501 et seq.). This is a proposed extension of the ICR, which is currently approved through August 31, 2016. Public comments were previously requested via the Federal Register (80 FR 32116) on June 5, 2015 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before September 28, 2016.

ADDRESSES: Submit your comments, referencing Docket ID Number EPA-HQ-OECA-2012-0697, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information for which disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW., Washington, DC. The telephone number for the Docket Center is (202) 566-1744. For additional information about EPA's public docket, visit: http://www.epa.gov/dockets.

Abstract: Owners and operators of affected facilities are required to comply with reporting and record keeping requirements for the General Provisions (40 CFR part 63, subpart A), as well as for the specific requirements at 40 CFR part 63, subpart EEEEE. This includes submitting initial notification reports, performance tests and periodic reports and results, and maintaining records of the occurrence and duration of any startup, shutdown, or malfunction in the operation of an affected facility, or any period during which the monitoring system is inoperative. These reports are used by EPA to determine compliance with the standards.

Form Numbers: None.

Respondents/affected entities: Iron and steel foundries.

Respondent's obligation to respond: Mandatory (40 CFR part 63, subpart EEEEE).

Estimated number of respondents: 98 (total).

Frequency of response: Initially, occasionally and semiannually.

Total estimated burden: 30,000 hours (per year). Burden is defined at 5 CFR 1320.3(b).

Total estimated cost: $3,490,000 (per year), which includes $400,000 in either annualized capital/startup or operation & maintenance costs.

Changes in the Estimates: There is an adjustment increase in the total estimated burden and cost as currently identified in the OMB Inventory of Approved Burdens. This increase is not due to any program changes. The change in the burden and cost estimates occurred because this ICR assumes that all existing respondents will have to familiarize with regulatory requirements each year.

There is a small adjustment decrease of $60 in the total capital and O&M cost as currently identified in the OMB Inventory of Approved Burdens. This decrease is not due to any program changes. The change in estimates occurred because this ICR rounds totals to three significant figures.

Courtney Kerwin,
Director, Regulatory Support Division.

[FR Doc. 2016-20607 Filed 8-26-16; 8:45 am]

BILLING CODE 6560-50-P